DEPARTMENT OF LABOR

Employment and Training Administration

[NAFTA-6365]

Oki Data America, Inc., a Subsidiary of Oki Data Corp., a Subsidiary of Oki Electric Industry Co., Ltd., Mount Laurel, NJ; Notice of Termination of Investigation

Pursuant to Title V of the North American Free Trade Agreement Implementation Act (Pub. L. 103-182) concerning transitional adjustment assistance, hereinafter called NAFTA-TAA and in accordance with section 250(a), subchapter D, chapter 2, title II, of the Trade Act of 1974, as amended (19 U.S.C. 2273), an investigation was initiated on July 15, 2002 in response to a petition filed by the company on behalf of workers at Oki Data Americas, Inc., a subsidiary of Oki Data Corp., a subsidiary of Oki Electric Industry Co., Ltd., Mount Laurel, New Jersey.

The petitioner has requested that the petition be withdrawn. Consequently, further investigation in this case would serve no purpose, and the investigation is terminated.

Signed in Washington, DC, this 4th day of September, 2002.
Linda G. Poole,
Certifying Officer, Division of Trade Adjustment Assistance.

[FR Doc. 02-24113 Filed 9-20-02; 8:45 am]

BILLING CODE 4510-30-P